DEPARTMENT OF HOMELAND SECURITY

Coast Guard

33 CFR Part 117

[Docket No. USCG-2014-1012]

Drawbridge Operation Regulation; Gulf Intracoastal Waterway, Belle Chasse, LA

AGENCY: Coast Guard, DHS.

ACTION: Notice of deviation from drawbridge regulation.

SUMMARY: The Coast Guard has issued a temporary deviation from the operating schedule that governs the Louisiana State Route 23 (LA 23) vertical lift span bridge, also known as the Judge Perez Bridge, across the Gulf Intracoastal Waterway (Algiers Alternate Route), mile 3.8, at Belle Chasse, Plaquemines Parish, Louisiana. This deviation is necessary to provide for the safe movement of vehicular traffic during major plant reconstruction on one side of the waterway and the resulting change in work schedule and increase in workforce transiting the bridge. This deviation allows the bridge to remain temporarily closed to navigation for an additional one hour in the evening during weekdays for five weeks.

DATES: This deviation is effective without actual notice from December 5, 2014 through 6:30 p.m. on December 25, 2014. For the purposes of enforcement, actual notice will be used from 5:30 p.m. on November 24, 2014, until December 5, 2014.

ADDRESSES: The docket for this deviation, [USCG-2014-1012] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: On November 10, 2014, a Notice of Temporary Deviation entitled, “Drawbridge Operation Regulation; Gulf Intracoastal Waterway, Belle Chasse, LA” was published in the Federal Register. 79 FR 66621.

That temporary deviation allowed for the Louisiana State Route 23 (LA 23) vertical lift span bridge, also known as the Judge Perez Bridge, across the Gulf Intracoastal Waterway (Algiers Alternate Route), mile 3.8, at Belle Chasse, Plaquemines Parish, Louisiana, to remain closed to navigation for an additional one hour in the evenings from 5:30 p.m. to 6:30 p.m. from December 26, 2014, through February 20, 2015.

Subsequent to publication, the Sheriff of Plaquemines Parish requested by letter dated November 18, 2014, that the additional one hour deviation commence immediately because of major safety concerns with regard to parish residents and the ability of emergency vehicles to transit the area. The Sheriff of Plaquemines Parish indicated that the area has experienced increased traffic during a construction pre-shut down phase at the Phillips 66 plant.

The deviation requested allows the bridge to remain closed to navigation for an additional one hour in the evening, Monday through Friday, effecting a total deviation period from Friday, November 24, 2014, through Friday, February 20, 2015. Coordination with local Coast Guard and waterway users was conducted, and immediate commencement of the deviation will not have a significant impact on mariners.

Presently, in accordance with 33 CFR 117.451(b), the draw shall open on signal; except that, from 6 a.m. to 8:30 a.m. and from 3:30 p.m. to 5:30 p.m. Monday through Friday, except Federal holidays, the draw need not open for the passage of vessels.

This temporary deviation allows the vertical lift bridge to remain closed to navigation for one additional hour in the afternoon. This additional hour extends the afternoon curfew hours to 6:30 p.m. Monday through Friday beginning November 24, 2014 through December 25, 2014. In case of an emergency, the bridge will be able to open for the passage of vessels.

The State Route 23 vertical lift span drawbridge across the Gulf Intracoastal Waterway (Algiers Alternate Route), mile 3.8, at Belle Chasse, Louisiana has a vertical clearance of 40 feet above mean high water in the closed-to-navigation position and 100 feet above mean high water in the open-to-navigation position. Navigation on the waterway consists primarily of tugs with tows, commercial fishing vessels, and occasional recreational craft. Mariners may use the Gulf Intracoastal Waterway (Harvey Canal) to avoid unnecessary delays. The Coast Guard has coordinated this closure with the Gulf Intracoastal Canal Association (GICA). The GICA representative indicated that the vessel operators will be able to schedule transits through the bridge to avoid delays and significant impacts on operations. Due to prior experience, as well as coordination with waterway users, it has been determined that this closure will not have a significant effect on these vessels.

In accordance with 33 CFR 117.35, the drawbridge must return to its regular operating schedule immediately at the end of the effective period of this temporary deviation.

This deviation from the operating regulations is authorized under 33 CFR 117.35.

Dated: November 24, 2014.
David M. Frank,
Bridge Administrator, Eighth Coast Guard District.

[FR Doc. 2014-28602 Filed 12-4-14; 8:45 am]

BILLING CODE 9110-04-P